DEPARTMENT OF THE INTERIOR

National Park Service

Release of an Environmental Assessment Document for the Placement of Wireless Telecommunication Facilities

AGENCY: National Park Service, Catoctin Mountain Park.

ACTION: Reduction in the number of public informational meetings.

SUMMARY: Catoctin Mountain Park will release for public review, the Environmental Assessment document for the application regarding the placement of wireless telecommunication facilities (WTF). The public information meeting scheduled for April 29, 2003 will not be held. Two meetings were originally scheduled because the meetings were to be held during the winter months; since the meetings are being held in the spring, only one will be held. The public informational meeting of May 1, 2003 will be held as scheduled at Catoctin Mountain Park, Round Meadow Conference Room at 7 p.m.

DATES: Environmental Assessment release date—April 18, 2003.

Document Availability: The Environmental Assessment document will be available for public review at Catoctin Mountain Park headquarters located at 6602 Foxville Road, Thurmont Maryland, at Washington County Library (Hagerstown and Smithsburg branches) and Frederick County Library (Frederick and Thurmont branches) and online at the Catoctin Mountain Park's Web site http://www.nps.gov/cato.

FOR FURTHER INFORMATION CONTACT: Scott Bell, Environmental Protection Specialist, 301/416-0536.

Dated: April 16, 2003.
J. Mel Poole,
Superintendent, Catoctin Mountain Park.

[FR Doc. 03-10023 Filed 4-22-03; 8:45 am]

BILLING CODE 4310-40-P